DEPARTMENT OF THE INTERIOR

Bureau of Land Management

[LLORB00000.L10200000.PH0000.LX.SS.036H0000; HAG 12-0282]

Southeast Oregon Resource Advisory Council (RAC); Meeting

AGENCY: Bureau of Land Management, Interior.

ACTION: Notice of public meeting.

SUMMARY: In accordance with the Federal Land Policy and Management Act and the Federal Advisory Committee Act of 1972, the U.S. Department of the Interior, Bureau of Land Management, the Southeast Oregon Resource Advisory Council (RAC) will meet as indicated below:

DATES: The Southeast Oregon RAC will hold a public meeting Monday, September 10, 2012, from 8:30 a.m. to 4:30 p.m. and Tuesday, September 11, 2012, from 8:30 a.m. to 12 p.m. Public comment is scheduled at 11 a.m. each day. Unless otherwise approved by the Southeast Oregon RAC Chair, the public comment period will last no longer than 30 minutes, and each speaker may address the RAC for a maximum of 5 minutes. Meeting times and the duration scheduled for public comment periods may be extended or altered when the authorized representative considers it necessary to accommodate necessary business and all who seek to be heard regarding matters before the RAC.

ADDRESSES: The meetings will be held at the BLM Burns District Office, 28910 Hwy 20 West, in Hines, Oregon 97738.

FOR FURTHER INFORMATION CONTACT: Tara Martinak, Public Affairs Specialist, Bureau of Land Management Burns District Office, 28910 Highway 20 West, Hines, Oregon 97738, (541) 573-4519 or email tmartina@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The Southeast Oregon RAC consists of 15 members chartered and appointed by the Secretary of the Interior. Their diverse perspectives are represented in commodity, conservation, and general interests. They provide advice to BLM and Forest Service resource managers regarding management plans and proposed resource actions on public land in southeast Oregon.

Tentative agenda items for the September 10-11, 2012, meeting include: A discussion regarding recent wildfires, subsequent stabilization and rehabilitation efforts, effected resources and the status of ecosystems of burned areas within the Southeast Oregon RAC jurisdictional boundary; updates on travel management planning in the Lakeview Resource Area, the Chiloquin Ranger District, and the Malheur National Forest; information sharing regarding Cooperative Conservation Agreements (CCA) and CCA's with Assurances; and a partial-day field tour to the Miller Homestead wildfire area near Frenchglen, Oregon. The Southeast Oregon RAC will also hear subcommittee and Federal official reports, receive an update on the RAC's development on questions for analyzing lands with wilderness characteristics, review and approve meeting minutes from the April 2012 session, and develop agenda items for the next meeting. Any other matters that may reasonably come before the Southeast Oregon RAC may also be addressed.

All meetings are open to the public in their entirety. Those interested in participating in the field tour must provide personal transportation. Information to be distributed to the Southeast Oregon RAC is requested prior to the start of each meeting.

Before including your address, phone number, email address, or other personal identifying information in your comment, you should be aware that your entire comment—including your personal identifying information—may be made publicly available at any time. While you can ask us in your comment to withhold your personal identifying information from public review, we cannot guarantee that we will be able to do so.

Jeff Rose,
BLM Burns Associate District Manager.

[FR Doc. 2012-21834 Filed 9-4-12; 8:45 am]

BILLING CODE 4310-33-P